DEPARTMENT OF ENERGY

Federal Energy Regulatory Commission

[Docket No. CP20-30-000]

Texas Eastern Transmission, LP; Notice of Schedule for Environmental Review of the Middlesex Extension Project

On December 19, 2019, Texas Eastern Transmission, LP (Texas Eastern) filed an application in Docket No. CP20-30-000 with the Federal Energy Regulatory Commission (FERC or Commission) requesting a Certificate of Public Convenience and Necessity pursuant to section 7(c) of the Natural Gas Act to construct and operate certain natural gas pipeline facilities in Middlesex County, New Jersey. The proposed project is known as the Middlesex Extension Project (Project) would provide 264 million cubic feet (264,000 dekatherms) per day of natural gas transportation to interconnects with Transcontinental Gas Pipe Line Company, LLC's (Transco) mainline system and Transco's existing Woodbridge Lateral for the delivery to the 725-Megawatt natural gas-fueled combined-cycle Woodbridge Energy Center in Woodbridge Township, New Jersey.

On January 6, 2020, the Commission issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—May 21, 2020

90-day Federal Authorization Decision Deadline—August 19, 2020

If a schedule change becomes necessary, additional notice will be provided so that the relevant agencies are kept informed of the Project's progress.

Project Description

The Middlesex Extension Project would consist of the following facilities:

• 1.55 Miles of 20-inch-diameter pipeline;

• a new metering and regulating station;

• 0.20 mile of 16-inch-diameter interconnecting piping; and

• related appurtenances and ancillary facilities.

Background

On February 7, 2020, the Commission issued a Notice of Intent to Prepare an Environmental Assessment for the Proposed Middlesex Extension Project, Request for Comments on Environmental Issues, and Notice of Public Scoping Session (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP20-30), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: February 20, 2020.
Kimberly D. Bose,
Secretary.

[FR Doc. 2020-03901 Filed 2-26-20; 8:45 am]

BILLING CODE 6717-01-P